DEPARTMENT OF HEALTH AND HUMAN SERVICES

Health Resources and Services Administration

National Advisory Committee on Rural Health and Human Services

AGENCY: Health Resources and Services Administration (HRSA), Department of Health and Human Services.

ACTION: Notice of meeting.

SUMMARY: In accordance with the Federal Advisory Committee Act, notice is hereby given that a meeting is scheduled for the National Advisory Committee on Rural Health and Human Services (NACRHHS). This meeting will be open to the public. Information about NACRHHS and the agenda for this meeting can be obtained by accessing the following Web site: http://www.hrsa.gov/advisorycommittees/rural.

DATES:

April 10, 2017, 9:00 a.m.-5:00 p.m. EDT

April 11, 2017, 8:30 a.m.-5:00 p.m. EDT

April 12, 2017, 9:00 a.m.-11:00 a.m. EDT

ADDRESSES: This meeting will be held in-person at the Hyatt Place Hotel. The address for the meeting is 400 E Street SW., Washington, DC 20024. The meeting will also be held in-person at the Hubert H. Humphrey Building, located at 200 Independence Avenue SW., Washington, DC, on April 11.

FOR FURTHER INFORMATION CONTACT: Steve Hirsch, Administrative Coordinator, NACRHHS, HRSA, 5600 Fishers Lane, Room 17W41C, Rockville, Maryland 20857, telephone (301) 443-0835, fax (301) 443-2803 or by email at shirsch@hrsa.gov.

Persons interested in attending any portion of the meeting, including the April 11 portion at the Hubert H. Humphrey Building, should contact Adam Cohen at the Federal Office of Rural Health Policy before April 7, 2017 by telephone at (301) 443-0445 or by email at acohen@hrsa.gov.

SUPPLEMENTARY INFORMATION: NACRHHS provides counsel and recommendations to the Secretary with respect to the delivery, research, development, and administration of health and human services in rural areas.

The meeting on Monday, April 10, will be called to order at 9:00 a.m. by the Chairperson of the Committee, the Honorable Ronnie Musgrove. The Committee will examine the current delivery of health care and human services in rural areas. The day will conclude with a period of public comment at approximately 5:00 p.m.

The Committee will visit the Hubert H. Humphrey Building on Tuesday, April 11. The day will conclude with a period of public comment at approximately 5:00 p.m.

The Committee will meet to summarize key findings and develop a work plan for the next quarter and its future meeting on Wednesday, April 12, at 9:00 a.m., at the Hyatt Place Hotel.

The Hubert H. Humphrey Building requires a security screening on entry. To facilitate your access to the building, please contact Adam Cohen before April 7, 2017 at (301) 443-0445. Individuals who plan to attend and need special assistance, such as sign language interpretation or other reasonable accommodations, should notify Adam Cohen by telephone at (301) 443-0445 or by email at acohen@hrsa.gov at least 10 days prior to the meeting.

Jason E. Bennett,
Director, Division of the Executive Secretariat.

[FR Doc. 2017-05298 Filed 3-16-17; 8:45 am]

BILLING CODE 4165-15-P